DEPARTMENT OF HOMELAND SECURITY

Federal Emergency Management Agency

[Docket ID FEMA-2024-0002; Internal Agency Docket No. FEMA-B-2467]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Alabama:
Limestone | City of Madison (24-04-6459X). | The Honorable Paul Finley, Mayor, City of Madison, 100 Hughes Road, Madison, AL 35758. | City Hall, 100 Hughes Road, Madison, AL 35758. | https://msc.fema.gov/portal/advanceSearch. | Jan. 9, 2025 | 010308
Madison | City of Huntsville (24-04-1487P). | The Honorable Thomas Battle, Jr., Mayor, City of Huntsville, 308 Fountain Circle Southwest, 8th Floor, Huntsville, AL 35804. | City Hall, 308 Fountain Circle Southwest, 8th Floor, Huntsville, AL 35804. | https://msc.fema.gov/portal/advanceSearch. | Dec. 19, 2024 | 010153
Madison | Town of Owens Cross Roads (24-04-1487P). | The Honorable Tony K. Craig, Mayor, Town of Owens Cross Roads, 9032 U.S. Highway 431, Owens Cross Roads, AL 35763. | City Hall, 9032 U.S. Highway 431, Owens Cross Roads, AL 35763. | https://msc.fema.gov/portal/advanceSearch. | Dec. 19, 2024 | 01 010218
Madison | Unincorporated Areas of Madison County (24-04-1487P). | Mac McCutcheon, Chair, Madison County Commission, 100 North Side Square, Suite 700, Huntsville, AL 35801. | Madison County Water Department, 266-C Shields Road, Huntsville, AL 35811. | https://msc.fema.gov/portal/advanceSearch. | Dec. 19, 2024 | 00 010151
Arizona:
Gila | City of Globe (24-09-0443P). | The Honorable Al Gameros, Mayor, City of Globe, 150 North Pine Street, Globe, AZ 85501. | City Hall, 150 North Pine Street, Globe, AZ 85501. | https://msc.fema.gov/portal/advanceSearch. | Dec. 26, 2024 | 040029
Navajo | Town of Pinetop-Lakeside (23-09-1093P). | The Honorable Stephanie Irwin, Mayor, Town of Pinetop-Lakeside, 325 West White Mountain Boulevard, Lakeside, AZ 85929. | Town Hall, 325 West White Mountain Boulevard, Lakeside, AZ 85929. | https://msc.fema.gov/portal/advanceSearch. | Jan. 9, 2025 | 040127
Arkansas:
Jackson | City of Campbell Station (23-06-2514P). | The Honorable John Reed, Mayor, City of Campbell Station, 5005 Keeter Circle, Tuckerman, AR 72473. | City Hall, 5005 Keeter Circle, Tuckerman, AR 72473. | https://msc.fema.gov/portal/advanceSearch. | Jan. 17, 2025 | 050099
Jackson | City of Diaz (23-06-2514P). | The Honorable Perry Stegall, Mayor, City of Diaz, P.O. Box 136, Diaz, AR 72043. | City Hall, P.O. Box 136, Diaz, AR 72043. | https://msc.fema.gov/portal/advanceSearch. | Jan. 17, 2025 | 050100
Jackson | City of Newport (23-06-2514P). | The Honorable Derrick Ratliffe, Mayor, City of Newport, 615 3rd Street, Newport, AR 72112. | Economic Development Commission, 615 3rd Street, Newport, AR 72112. | https://msc.fema.gov/portal/advanceSearch. | Jan. 17, 2025 | 050103
Jackson | Town of Jacksonport (23-06-2514P). | The Honorable Marcus Dodson, Mayor, Town of Jacksonport, P.O. Box 116, Jacksonport, AR 72075. | Town Hall, P.O. Box 116, Jacksonport, AR 72075. | https://msc.fema.gov/portal/advanceSearch. | Jan. 17, 2025 | 050102
Jackson | Unincorporated areas of Jackson County (23-06-2514P). | The Honorable Jeff Phillips, Jackson County Judge, 208 Main Street, Newport, AR 72112. | Jackson County Courthouse, 208 Main Street, Newport, AR 72112. | https://msc.fema.gov/portal/advanceSearch. | Jan. 17, 2025 | 050096
Colorado:
Boulder | Town of Superior (23-08-0189P). | The Honorable Mark Lacis, Mayor, Town of Superior, 124 East Coal Creek Drive, Superior, CO 80027. | Town Hall, 124 East Coal Creek Drive, Superior, CO 80027. | https://msc.fema.gov/portal/advanceSearch. | Dec. 23, 2024 | 080203
Boulder | Unincorporated areas of Boulder County (23-08-0189P). | The Honorable Ashley Stolzmann, Chair, Boulder County Board of Commissioners, P.O. Box 471, Boulder, CO 80306. | Boulder County Transportation Department, 2525 13th Street, Suite 203, Boulder, CO 80304. | https://msc.fema.gov/portal/advanceSearch. | Dec. 23, 2024 | 080023
Connecticut:
Fairfield | Town of Greenwich (24-01-0503P). | The Honorable Fred Camillo, First Selectman, Town of Greenwich Board of Selectmen, 101 Field Point Road, Greenwich, CT 06830. | Planning and Development Department, 101 Field Point Road, Greenwich, CT 06830. | https://msc.fema.gov/portal/advanceSearch. | Jan. 16, 2025 | 090008
New Haven | City of New Haven (24-01-0496P). | The Honorable Justin Elicker, Mayor, City of New Haven, 165 Church Street, New Haven, CT 06510. | Planning Department, 165 Church Street, 5th Floor, New Haven, CT 06510. | https://msc.fema.gov/portal/advanceSearch. | Jan. 10, 2025 | 090084
New Haven | Town of East Haven (24-01-0496P). | The Honorable Joseph A. Carfora, Mayor, Town of East Haven, 250 Main Street, East Haven, CT 06512. | Engineering Department, 461 North High Street, East Haven, CT 06512. | https://msc.fema.gov/portal/advanceSearch. | Jan. 10, 2025 | 090076
Florida:
Collier | Unincorporated areas of Collier County (24-04-6932X). | The Honorable Chris Hall, Chair, Collier County Board of Commissioners, 3299 Tamiami Trail East, Suite 303, Naples FL 34112. | Collier County Growth Management Community Development Department, 2800 North Horseshoe Drive, Naples FL 34104. | https://msc.fema.gov/portal/advanceSearch. | Jan. 21, 2025 | 120067
Monroe | Unincorporated areas of Monroe County (24-04-3770P). | The Honorable Holly Merrill Raschein, Mayor, Monroe County Board of Commissioners, 102050 Overseas Highway, Suite 234, Key Largo, FL 33037. | Monroe County Building Department, 2798 Overseas Highway, Suite 300, Marathon, FL 33050. | https://msc.fema.gov/portal/advanceSearch. | Jan. 17, 2025 | 125129
Orange | Unincorporated areas of Orange County (23-04-6249P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Jan. 31, 2025 | 120179
Palm Beach | Village of Royal Palm Beach (23-04-5354P). | The Honorable Fred Pinto, Mayor, Village of Royal Palm Beach, 1050 Royal Palm Beach Boulevard, Royal Palm Beach, FL 33411. | Village Hall, 1050 Royal Palm Beach Boulevard, Royal Palm Beach, FL 33411. | https://msc.fema.gov/portal/advanceSearch. | Dec. 24, 2024 | 120225
Pasco | City of Zephyrhills (24-04-4816P). | The Honorable Melonie Bahr Monson, Mayor, City of Zephyrhills, 5335 8th Street, Zephyrhills, FL 33542. | City Hall, 5335 8th Street, Zephyrhills, FL 33542. | https://msc.fema.gov/portal/advanceSearch. | Dec. 23, 2024 | 120235
Georgia:
Coweta | City of Newnan (24-04-0065P). | The Honorable Keith Brady, Mayor, City of Newnan, 25 LaGrange Street, Newnan, GA 30263. | City Hall, 25 LaGrange Street, Newnan, GA 30263. | https://msc.fema.gov/portal/advanceSearch. | Jan. 2, 2025 | 130062
Kansas:
Johnson | City of Lenexa (23-07-0423P). | The Honorable Julie Sayers, Mayor, City of Lenexa, 17101 West 87th Street Parkway, Lenexa, KS 66219. | City Hall, 17101 West 87th Street Parkway, Lenexa, KS 66219. | https://msc.fema.gov/portal/advanceSearch. | Jan. 22, 2025 | 200168
Johnson | City of Overland Park (23-07-0423P). | The Honorable Curt Skoog, Mayor, City of Overland Park, 8500 Santa Fe Drive, Overland Park, KS 66212. | City Hall, 8500 Santa Fe Drive, Overland Park, KS 66212. | https://msc.fema.gov/portal/advanceSearch. | Jan. 22, 2025 | 200174
Johnson | City of Shawnee (23-07-0423P). | The Honorable Michael Sandifer, Mayor, City of Shawnee, 11110 Johnson Drive, Shawnee, KS 66203. | City Hall, 11110 Johnson Drive, Shawnee, KS 66203. | https://msc.fema.gov/portal/advanceSearch. | Jan. 22, 2025 | 200177
Mississippi:
Harrison | City of Pass Christian (23-04-5645P). | The Honorable Jimmy Rafferty, Mayor, City of Pass Christian, 200 West Scenic Drive, Pass Christian, MS 39571. | City Hall, 200 West Scenic Drive, Pass Christian, MS 39571. | https://msc.fema.gov/portal/advanceSearch. | Jan. 23, 2025 | 285261
North Carolina:
Cabarrus | Town of Harrisburg (22-04-4548P). | The Honorable Jennifer Teague, Mayor, Town of Harrisburg, P.O. Box 100, Harrisburg, NC 28075. | Town Hall, 4100 Main Street, Suite 101, Harrisburg, NC 28075. | https://msc.fema.gov/portal/advanceSearch. | Jan. 3, 2025 | 37 370038
Tennessee:
Rutherford | City of La Vergne (24-04-4547P). | The Honorable Jason Cole, Mayor, City of La Vergne, 5093 Murfreesboro Road, La Vergne, TN 37086. | Codes Department, 5175 Murfreesboro Road, La Vergne, TN 37086. | https://msc.fema.gov/portal/advanceSearch. | Jan. 10, 2025 | 470167
Rutherford | Town of Smyrna (24-04-4547P). | The Honorable Mary Esther Reed, Mayor, Town of Smyrna, 315 South Lowry Street, Smyrna, TN 37167. | City Hall, 315 South Lowry Street, Smyrna, TN 37167. | https://msc.fema.gov/portal/advanceSearch. | Jan. 10, 2025 | 470169
Rutherford | Unincorporated areas of Rutherford County (24-04-4547P). | The Honorable Joe S. Carr, Mayor, Rutherford County, 1 Public Square, Room 101, Murfreesboro, TN 37130. | Rutherford County Courthouse, 116 West Lytle Street, Murfreesboro, TN 37130. | https://msc.fema.gov/portal/advanceSearch. | Jan. 10, 2025 | 470165
Texas:
Brazos | City of Bryan (23-06-2592P). | The Honorable Bobby Gutierrez, Mayor, City of Bryan, P.O. Box 1000, Bryan, TX 77805. | City Hall, 300 South Texas Avenue, Bryan, TX 77840. | https://msc.fema.gov/portal/advanceSearch. | Jan. 22, 2025 | 480082
Collin | City of McKinney (24-06-1316P). | The Honorable George Fuller, Mayor, City of McKinney, 222 North Tennessee Street, McKinney, TX 75069. | City Hall, 221 North Tennessee Street, McKinney, TX 75069. | https://msc.fema.gov/portal/advanceSearch. | Jan. 21, 2025 | 480135
Dallas | City of Mesquite (24-06-0950P). | The Honorable Daniel Aleman, Jr., Mayor, City of Mesquite, P.O. Box 850137, Mesquite, TX 75185. | City Hall, 1515 North Galloway Avenue, Mesquite, TX 75149. | https://msc.fema.gov/portal/advanceSearch. | Jan. 6, 2025 | 485490
Denton | City of Carrollton (23-06-1374P). | The Honorable Steve Babick, Mayor, City of Carrollton, 1945 East Jackson Road, Carrollton, TX 75006. | City Hall, 1945 East Jackson Road, Carrollton, TX 75006. | https://msc.fema.gov/portal/advanceSearch. | Feb. 4, 2025 | 480167
Denton | City of Lewisville (23-06-1374P). | The Honorable T.J. Gilmore, Mayor, City of Lewisville, 151 West Church Street, Lewisville, TX 75057. | City Hall, 151 West Church Street, Lewisville, TX 75057. | https://msc.fema.gov/portal/advanceSearch. | Feb. 4, 2025 | 480195
Montgomery | City of Roman Forest (24-06-0838P). | The Honorable Chris Parr, Mayor, City of Roman Forest, 2430 Roman Forest Boulevard, Roman Forest, TX 77357. | City Hall, 2430 Roman Forest Boulevard, Roman Forest, TX 77357. | https://msc.fema.gov/portal/advanceSearch. | Jan. 9, 2025 | 481538
Montgomery | City of Woodbranch (24-06-0838P). | The Honorable Mike Tyson, Mayor, City of Woodbranch, 58A Woodbranch Drive, New Caney, TX 77357. | City Hall, 58A Woodbranch Drive, New Caney, TX 77357. | https://msc.fema.gov/portal/advanceSearch. | Jan. 9, 2025 | 480694
Montgomery | Unincorporated areas of Montgomery County (24-06-0838P). | The Honorable Mark J. Keough, Montgomery County Judge, 501 North Thompson Street, Suite 401, Conroe, TX 77301. | Montgomery County Courthouse, 501 North Thompson Street, Suite 100, Conroe, TX 77301. | https://msc.fema.gov/portal/advanceSearch. | Jan. 9, 2025 | 480483

[FR Doc. 2024-24348 Filed 10-21-24; 8:45 am]

BILLING CODE 9110-12-P